DEPARTMENT OF HEALTH AND HUMAN SERVICES

National Committee on Vital and Health Statistics: Meeting

Pursuant to the Federal Advisory Committee Act, the Department of Health and Human Services announces the following advisory committee meeting.

Name: National Committee on Vital and Health Statistic (NCVHS). Joint Meeting: National Health Information Infrastructure Workgroup and Health Statistics for the 21st Century Workgroup.

Time and Date: 9 a.m. to 5 p.m., July 10, 2000.

Place: The Westin Hotel O'Hare, 6100 River Road, Rosemont, IL 60018.

Status: Open.

Purpose: This meeting will be conducted as a hearing is to solicit opinions for the public, including oral and written testimony, about the issues raised in the interim reports of these two workgroups: “Toward a National Health Information Infrastructure” and “Shaping a Vision for 21st Century Health Statistics.” The reports may be downloaded from the NCVHS homepage at http://www.ncvhs.hhs.gov/. The hearing will explore the overall concept that a National Health Information Infrastructure (NHII) is a framework that can link health improvements and information technologies. As envisioned in the interim report, the NHII is the set of technologies, standards, applications, systems, values, and law that support all facets of individual health, health care, and public health. The broad goal of the NHII is to deliver information to individuals—consumers, patients, and professionals—when and where they need it, so they can use this information to make informed decisions about health and health care.

The hearing will also seek comments about major trends and issues in population health and their implications for future information needs described in the report, “Shaping a Vision for 21st Century Health Statistics.” The report outlines themes that have emerged from national consultations involving health statistics users, public health providers, advocacy groups and health care providers at local, state, and Federal levels. The national consultative process has helped to identify trends and gaps in shaping the vision, as well as cross-cutting issues involved. Ten principles have emerged as essential qualities to developing the health statistics Vision.

Person representing a variety of public and private sector interests will be invited to present their views on the issues raised in the interim reports. There also will be an opportunity for comments from the audience. The July hearing is the first of a series of joint public hearings to be conducted in several regions of the country through the fall of 2000 to solicit testimony on the reports. Information from the hearings will be incorporated as definitive statements in the final reports expected to be completed in early 2001.

Persons who would like to make a brief oral comment (3-5 minutes) during the July hearing will be placed on the agenda as time permits. To be included on the agenda, please submit testimony by June 26, 2000, to Patrice Upchurch at (301) 458-4540, by e-mail at pupchurch@cdc.gov, or postal address at NCHS, Presidential Building, Room 1100, 6525 Belcrest Road, Hyattsville, Maryland 20782. Persons wishing to submit written testimony only (no more than 2-3 typewritten pages) should also adhere to the due date of June 26, 2000. Please consult Ms. Upchurch for further information about these arrangements. Additional information about the meeting will be provided on the NCVHS homepage at http://www.ncvhs.hhs.gov/ shortly before the meeting date. All participants are encouraged to review the interim reports before the meeting.

For Further Information Contact: Substantive program information as well as summaries of meetings and a roster of committee members may be obtained from Ms. Upchurch at the address above; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: June 7, 2000.
James Scanlon,
Director, Division of Data Policy, Office of the Assistant Secretary for Planning and Evaluation.

[FR Doc. 00-14985 Filed 6-13-00; 8:45 am]

BILLING CODE 4151-05-M